DEPARTMENT OF HOMELAND SECURITY

Coast Guard

33 CFR Part 165

[USCG-2006-25767; CGD09-06-123]

RIN 1625-AA00

Safety Zones; U.S. Coast Guard Water Training Areas, Great Lakes

AGENCY: Coast Guard, DHS.

ACTION: Re-opening of comment period.

SUMMARY: In response to public requests, the Coast Guard is re-opening the comment period on its notice of proposed rulemaking (NPRM) to establish permanent safety zones throughout the Great Lakes to conduct live fire gun exercises. These safety zones are necessary to protect the public from the hazards associated with the firing of weapons and to ensure the operational readiness of Coast Guard personnel, cutters and small boats. Re-opening the comment period will provide the public more time to submit comments and recommendations.

DATES: Comments and related materials must reach the Coast Guard on or before November 13, 2006.

ADDRESSES: To make sure your comments and related material are not entered more than once in the docket, please submit them by only one of the following means:

(1) By mail to the Docket Management Facility (USCG-2006-2567), U.S. Department of Transportation, room PL-401, 400 SW., Washington, DC 20590-0001.

(2) By delivery to room PL-401 on the Plaza level of the Nassif Building, 400 Seventh Street SW., Washington, DC between 9 a.m. and 5 p.m. Monday through Friday, except Federal Holidays. The telephone number is 202-366-9329.

(3) By fax to the Docket Management Facility at 202-493-2251.

(4) Electronically through the Web site for the Docket Management System at http://dms.dot.gov.

The Docket Management Facility maintains the public docket for the rulemaking. Comments will become part of this docket and will be available for inspection or copying at room PL-401, located on the Plaza level of the Nassif Building at the same address between 10 a.m. and 5 p.m., Monday through Friday, except Federal holidays. You may electronically access the public docket on the Internet at http://dms.dot.gov.

FOR FURTHER INFORMATION CONTACT: For information on the NPRM provisions contact Commander Gustav Wulfkuhle, Enforcement Branch, Response Division, Ninth Coast Guard District, Cleveland, Ohio at 216-902-6091. For questions on viewing or submitting material to the docket, call Renee V. Wright, Program Manager, Docket Operations, telephone 202-493-0402.

SUPPLEMENTARY INFORMATION:

Background and Purpose

On August 1, 2006, the Coast Guard published a notice of proposed rulemaking (NPRM)(71 FR 43402) to establish permanent safety zones throughout the Great Lakes to conduct live fire gun exercises. The initial comment period for this NPRM ended on August 31, 2006.

In response to public requests, the Coast Guard is re-opening the comment period on this NPRM. Re-opening the comment period will provide the public more time to submit comments and recommendations.

In addition, the Coast Guard has added a copy of the “Preliminary Health Risk Assessment for Proposed U.S. Coast Guard Weapons Training Exercises” (January 2006) to the docket in order to better inform the public that the proposed training will pose no elevated health or ecological risks in the Great Lakes.

Request for Comments

The Coast Guard encourages you to submit comments and related materials. If you submit a comment, please include your name and address, identify the NPRM [USCG-2006-2567 (formerly CGD09-06-123)]; published in the Federal Register on August 1, 2006 (71 FR 43402) and indicate the specific section of this document to which each comment applies, and give the reason for each comment. Please submit one copy of all comments and attachments in an unbound format, no larger than 8½ by 11 inches, suitable for copying and electronic filing to the DOT Docket Management Facility at the address under ADDRESSES. If you submit them by mail and would like to know that they reached the facility, please enclose a stamped, self-addressed postcard or envelope.

The Coast Guard will consider all comments received during the comment period. It may change the proposed rules in view of the comments.

Dated: September 1, 2006.
John E. Crowley, Jr.,
Rear Admiral, U.S. Coast Guard, Commander, Ninth Coast Guard District.

[FR Doc. E6-15109 Filed 9-11-06; 8:45 am]

BILLING CODE 4910-15-P